DEPARTMENT OF TRANSPORTATION

Federal Aviation Administration

14 CFR Part 39

[Docket No. FAA-2010-1055; Directorate Identifier 2010-NE-35-AD]

RIN 2120-AA64

Airworthiness Directives; Austro Engine GmbH Model E4 Diesel Piston Engines

AGENCY: Federal Aviation Administration (FAA), DOT.

ACTION: Notice of proposed rulemaking (NPRM).

SUMMARY: We propose to supersede an existing airworthiness directive (AD) that applies to the products listed above. The existing AD currently requires frequent inspections of the fuel pressure supply for excessive oscillations to determine if high-pressure fuel pumps have been exposed to damaging pressure oscillations. Pumps that have been exposed require replacement before further flight. Since we issued that AD, Austro Engine, the manufacturer of the pump, introduced a new part number (P/N) fuel pump as mandatory terminating action to the repetitive inspections. This proposed AD would require the initial and repetitive inspections of AD 2010-23-09, but would also require installing HP fuel pump P/N E4A-30-200-000, as mandatory terminating action to the repetitive inspections. We are proposing this AD to prevent engine power loss or in-flight shutdown, which could result in loss of control of the airplane.

DATES: We must receive comments on this proposed AD by July 25, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Austro Engine GmbH, Rudolf-Diesel-Strasse 11, A-2700 Weiner Neustadt, Austria, phone: +43 2622 23000; fax: +43 2622 23000-2711, or go to: http://www.austroengine.at. You may review copies of the referenced service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: James Lawrence, Aerospace Engineer, Engine Certification Office, FAA, Engine and Propeller Directorate, 12 New England Executive Park, Burlington, MA 01803; phone: 781-238-7176; fax: 781-238-7199; e-mail: james.lawrence@faa.gov.

SUPPLEMENTARY INFORMATION:

Comments Invited

We invite you to send any written relevant data, views, or arguments about this proposed AD. Send your comments to an address listed under the ADDRESSES section. Include “Docket No. FAA-2010-1055; Directorate Identifier 2010-NE-35-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 27, 2010, we issued AD 2010-23-09, Amendment 39-16498 (75 FR 68179, November 5, 2010), for Austro Engine GmbH model E4 diesel piston engines. That AD requires frequent inspections of the fuel pressure supply for excessive oscillations to determine if high-pressure fuel pumps have been exposed to damaging pressure oscillations. Pumps that have been exposed require replacement before further flight. That AD resulted from the European Aviation Safety Agency (EASA), which is the Technical Agent for the Member States of the European Community, issuing emergency AD 2010-0206-E, dated October 8, 2010 to correct that same unsafe condition. We issued our AD to prevent engine power loss or in-flight shutdown, which could result in loss of control of the airplane.

Actions Since Existing AD Was Issued

Since we issued AD 2010-23-09, EASA issued AD 2011-0039, dated March 8, 2011, adding a terminating action on Austro Engine GmbH model E4 diesel piston engines.

Relevant Service Information

We reviewed Austro Engine GmbH Work Instruction No. WI-MSB-E4-009, dated October 7, 2010, and Austro Engine GmbH Mandatory Service Bulletin No. MSB-E4-009/2, dated March 4, 2011. The actions described in this service information are intended to prevent engine power loss or in-flight shutdown, which could result in loss of control of the airplane.

FAA's Determination

We are proposing this AD because we evaluated all the relevant information and determined the unsafe condition described previously is likely to exist or develop in other products of the same type design.

Proposed AD Requirements

This proposed AD would retain all the requirements of AD 2010-23-09, and require installing HP fuel pump P/N E4A-30-200-000, as mandatory terminating action to the repetitive inspections.

Costs of Compliance

Based on the service information, we estimate that this proposed AD will affect about 32 model E4 diesel piston engines, installed on airplanes of U.S. registry. We also estimate that it will take about 1 work-hour per engine to perform one inspection, and about 2 work-hours per engine to replace the HP fuel pump. The average labor rate is $85 per work-hour. Required parts will cost about $2,325 per product. Based on these figures, we estimate the cost of the AD on U.S. operators to be $82,560.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-23-09, Amendment 39-16498 (75 FR 68179, November 5, 2010), and adding the following new AD:

Austro Engine GmbH: Docket No. FAA-2010-1055; Directorate Identifier 2010-NE-35-AD.

Comments Due Date

(a) The FAA must receive comments on this AD action by July 25, 2011.

Affected ADs

(b) This AD supersedes AD 2010-23-09, Amendment 39-16498.

Applicability

(c) This AD applies to Austro Engine GmbH model E4 diesel piston engines, with high-pressure (HP) fuel pump, part number (P/N) E4A-30-100-000, installed.

Unsafe Condition

(d) This AD was prompted by Austro Engine GmbH introducing a new P/N fuel pump as mandatory terminating action to the repetitive inspections required by AD 2010-23-09, Amendment 39-16498. We are issuing this AD to prevent engine power loss or in-flight shutdown, which could result in loss of control of the airplane.

Compliance

(e) Comply with this AD within the compliance times specified, unless already done.

(1) Inspect the fuel pressure supply for excessive oscillations using the inspection schedule in Table 1 of this AD.

Table 1—Inspection Schedule
Accumulated Time-Since-New (TSN) or Time Since Last Inspection (TSLI): | Compliance time:
45 flight hours or more | Within 10 flight hours after the effective date of this AD.
Fewer than 45 flight hours | Before 55 flight hours TSN or TSLI.
Repetitive inspections | Before 55 flight hours TSLI.

(2) Use Austro Engine GmbH Work Instruction No. WI-MSB-E4-009, dated October 7, 2010, to do the inspections.

(3) Replace the HP fuel pump before further flight with a new HP fuel pump, P/N E4A-30-200-000, if the oscillations exceed 300mV (750hPa).

Mandatory Terminating Action

(4) As mandatory terminating action to the repetitive inspections, within 120 flight hours after the effective date of this AD, replace the HP fuel pump, P/N E4A-30-100-000, with an HP fuel pump, P/N E4A-30-200-000. Austro Engine GmbH Mandatory Service Bulletin (MSB) No. MSB-E4-009/2 contains guidance on replacing the HP fuel pump.

Installation Prohibitions

(f) After the effective date of this AD, do not install any HP fuel pump P/N E4A-30-100-000, onto any engine.

(g) After the effective date of this AD, do not install any engine equipped with HP fuel pump P/N E4A-30-100-000, onto any airplane.

Alternative Methods of Compliance (AMOCs)

(h) The Manager, Engine Certification Office, FAA, has the authority to approve AMOCs for this AD, if requested using the procedures found in 14 CFR 39.19.

Related Information

(i) Refer to MCAI European Aviation Safety Agency Airworthiness Directive 2011-0039, dated March 8, 2011, Austro Engine GmbH Work Instruction No. WI-MSB-E4-009, dated October 7, 2010, and Austro Engine GmbH MSB No. MSB-E4-009/2, dated March 4, 2011, for related information. For a copy of this service information, contact Austro Engine GmbH, Rudolf-Diesel-Strasse 11, A-2700 Weiner Neustadt, Austria, phone: +43 2622 23000; fax: +43 2622 23000-2711, or go to: http://www.austroengine.at. For information on the availability of this material at the FAA, call 781-238-7125.

(j) For more information about this AD, contact James Lawrence, Aerospace Engineer, Engine Certification Office, FAA, Engine & Propeller Directorate, 12 New England Executive Park, Burlington, MA 01803; phone: (781) 238-7176; fax: (781) 238-7199; e-mail: james.lawrence@faa.gov.

Issued in Burlington, Massachusetts, on June 2, 2011.
Peter A. White,
Acting Manager, Engine & Propeller Directorate, Aircraft Certification Service.

[FR Doc. 2011-14235 Filed 6-8-11; 8:45 am]

BILLING CODE 4910-13-P